DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

New York Susquehanna and Western Railway

[Docket Number: FRA-2002-14086]

The New York Susquehanna and Western Railway (NYSW) seeks a permanent waiver of compliance from the requirement that a Qualified maintenance person (QMP), as defined in Passenger Equipment Safety Standards, 49 CFR 238.5, be a person whose primary responsibility includes work generally consistent with troubleshooting, inspection, maintenance, or repair of the equipment being inspected or tested. NYSW indicates they are operating passenger service utilizing a single Budd Rail Diesel Car (RDC) over a light density rail line within the City of Syracuse, NY. The service operates between 11:15 a.m. and 6:35 p.m. during the months of June, July, and August, and five days a week the rest of the year. The railroad indicates that they have met all requirements to designate the operating crew as a QMP with the exception of the primary responsibility requirement.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-14086) and must be submitted to the Docket Clerk, DOT Central Docket Management Facility, 400 7th Street, SW., Room PL-401 (Plaza Level), Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on February 13, 2003.
Grady C. Cothen, Jr.,
Deputy Associate Administrator for Safety Standards and Program Development.

[FR Doc. 03-3983 Filed 2-18-03; 8:45 am]

BILLING CODE 4910-06-P